NUCLEAR REGULATORY COMMISSION

Advisory Committee on Reactor Safeguards; Meeting

In accordance with the purposes of sections 29 and 182b of the Atomic Energy Act (42 U.S.C. 2039, 2232b), the Advisory Committee on Reactor Safeguards (ACRS) will hold a meeting on July 14-16, 2010, 11545 Rockville Pike, Rockville, Maryland. The date of this meeting was previously published in the Federal Register on Monday, October 14, 2009 (74 FR 52829-52830).

Wednesday, July 14, 2010, Conference Room T2-B1, Two White Flint North, Rockville, Maryland

8:30 a.m.-8:35 a.m.: Opening Remarks by the ACRS Chairman (Open)—The ACRS Chairman will make opening remarks regarding the conduct of the meeting.

8:35 a.m.-10:30 a.m: Safety Evaluation Report With Open Items Associated With the South Texas Project Combined License Application (Open/Closed)—The Committee will hear presentations by and hold discussions with representatives of the NRC staff and the South Texas Project Nuclear Operating Company regarding the Safety Evaluation Report with Open Items associated with the South Texas Project Combined License Application.

Note: A portion of this session may be closed in order to discuss and protect proprietary information pursuant to 5 U.S.C. 552b(c)(4).

10:45 a.m.-12:15 p.m.: Draft Final Regulatory Guide (RG) 3.74, “Guidance for Fuel Cycle Facility Change Processes” (Open)—The Committee will hear presentations by and hold discussions with representatives of the NRC staff regarding draft final RG 3.74, “Guidance for Fuel Cycle Facility Change Processes,” and the staff's resolution of public comments.

1:15 p.m.-3 p.m.: Meeting With Representatives of the Nuclear Energy Institute (NEI): (Open)—The Committee will hold discussions with representatives of NEI on items of mutual interest.

3:15 p.m.-7 p.m.: Preparation of ACRS Reports (Open)—The Committee will discuss proposed ACRS reports on matters discussed during this meeting.

Thursday, July 15, 2010, Conference Room T2-B1, Two White Flint North, Rockville, Maryland

8:30 a.m.-8:35 a.m.: Opening Remarks by the ACRS Chairman (Open)—The ACRS Chairman will make opening remarks regarding the conduct of the meeting.

8:35 a.m.-9:30 a.m.: Interim Staff Guidance DC/COL-ISG-017, “Ensuring Hazard-Consistent Seismic Input for Site Response and Soil Structure Interaction Analyses” (Open)—The Committee will hold discussions with representatives of the NRC staff regarding DC/COL-ISG-017, “Ensuring Hazard-Consistent Seismic Input for Site Response and Soil Structure Interaction Analyses.”

9:30 a.m.-10:30 a.m.: Interim Staff Guidance (ISG) DC/COL-ISG-020, “Implementation of Seismic Margin Analysis for New Reactors Based on PRA” (Open)—The Committee will hold discussions with representatives of the NRC staff regarding DC/COL-ISG-020, “Implementation of Seismic Margin Analysis for New Reactors Based on PRA”.

10:45 a.m.-12:15 p.m.: Future ACRS Activities/Report of the Planning and Procedures Subcommittee (Open/Closed)—The Committee will hold discussions of the Planning and Procedures Subcommittee regarding items proposed for consideration by the Full Committee during future ACRS Meetings, and matters related to the conduct of ACRS business, including anticipated workload and member assignments.

Note: A portion of this meeting may be closed pursuant to 5 U.S.C. 552b (c) (2) and (6) to discuss organizational and personnel matters that relate solely to internal personnel rules and practices of ACRS, and information the release of which would constitute a clearly unwarranted invasion of personal privacy.

12:15 p.m.-12:30 p.m.: Reconciliation of ACRS Comments and Recommendations (Open)—The Committee will discuss the responses from the NRC Executive Director for Operations to comments and recommendations included in recent ACRS reports and letters.

1:30 p.m.-2:30 p.m.: Assessment of the Quality of Selected NRC Research Projects (Open)—The Committee will discuss with members of the ACRS performing the quality assessment of the NRC research projects on: NUREG/CD-6947, “Human Factors Consideration With Respect to Emerging Technology in Nuclear Power Plants,” and NUREG/CR-6997, “Modeling a Digital Feedwater Control System Using Traditional Probabilistic Risk Assessment Methods.”

2:30 p.m.-7 p.m.: Preparation of ACRS Reports (Open)—The Committee will continue its discussion of proposed ACRS reports.

Friday, July 16, 2010, Conference Room T2-B1, Two White Flint North, Rockville, Maryland

12 p.m.-2 p.m.: Preparation of ACRS Reports (Open)—The Committee will continue its discussion of proposed ACRS reports.

2 p.m.-2:30 p.m.: Miscellaneous (Open)—The Committee will continue its discussion related to the conduct of Committee activities and specific issues that were not completed during previous meetings.

Procedures for the conduct of and participation in ACRS meetings were published in the Federal Register on October 14, 2009 (74 FR 52829-52830). In accordance with those procedures, oral or written views may be presented by members of the public, including representatives of the nuclear industry. Persons desiring to make oral statements should notify Mr. Derek Widmayer, Cognizant ACRS Staff (Telephone: 301-415-7366, e-mail: Derek.Widmayer@nrc.gov), five days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience.

Thirty-five hard copies of each presentation or handout should be provided 30 minutes before the meeting. In addition, one electronic copy of each presentation should be e-mailed to the Cognizant ACRS Staff one day before the meeting. If an electronic copy can not be provided within this timeframe, presenters should provide the Cognizant ACRS Staff with a CD containing each presentation at least 30 minutes before the meeting.

In accordance with subsection 10(d) Public Law 92-463, and 5 U.S.C. 552b(c), certain portions of this meeting may be closed, as specifically noted above. Use of still, motion picture, and television cameras during the meeting may be limited to selected portions of the meeting as determined by the Chairman. Electronic recordings will be permitted only during the open portions of the meeting.

ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m. e.t., at least 10 days before the meeting to ensure the availability of this service.

Individuals or organizations requesting this service will be responsible for telephone line charges and for providing the equipment and facilities that they use to establish the video teleconferencing link. The availability of video teleconferencing services is not guaranteed.

Dated: June 21, 2010.
Andrew L. Bates,
Advisory Committee Management Officer.

[FR Doc. 2010-15509 Filed 6-25-10; 8:45 am]

BILLING CODE 7590-01-P